DEPARTMENT OF HEALTH AND HUMAN SERVICES

National Institutes of Health

National Institute of Neurological Disorders and Stroke; Amended Notice of Meeting

Notice is hereby given of a change in the meeting of the National Institute of Neurological Disorders and Stroke Special Emphasis Panel; Advancing Careers of Diverse Research, February 25, 2021, 10:00 a.m. to February 26, 2021, 06:00 p.m., National Institutes of Health, Neuroscience Center, 6001 Executive Boulevard, Rockville, MD 20852 which was published in the Federal Register on January 14, 2021, 86 FR 3164.

This notice is being amended to change the dates of this two-day meeting from February 25, 2021 and February 26, 2021 to April 14, 2021 and April 15, 2021. The meeting time remains the same. The meeting is closed to the public.

Dated: February 12, 2021.
Tyeshia M. Roberson,
Program Analyst, Office of Federal Advisory Committee Policy.

[FR Doc. 2021-03386 Filed 2-18-21; 8:45 am]

BILLING CODE 4140-01-P